Proclamation 8011 of April 28, 2006

Loyalty Day, 2006

By the President of the United States of America

A Proclamation

Our Nation is blessed and bound together by a creed of freedom and equality that is entrusted to all Americans. Preserving the ideals of our founding requires the service and sacrifice of every generation, and on Loyalty Day, we celebrate the gift of liberty and remember our own obligation to this great Nation.

The dedication and selflessness of America's soldiers and their families inspire us all. Some of our Nation's finest men and women have given their lives in freedom's cause. By their sacrifices they have given us a legacy of liberty and brought honor to the uniform, our flag, and our country. The American people are grateful to the brave men and women of our military for their service and we will always stand behind them. I encourage all Americans to learn more about opportunities to thank and support our troops, from sending a care package to writing a message, by visiting www.americasupportsyou.mil.

Loyalty Day is also a time for us to reflect on our responsibilities to our country as we work to show the world the meaning and promise of liberty. The right to vote is one of our most cherished rights and voting is one of our most fundamental duties. By making a commitment to be good citizens, flying the American flag, or taking the time to learn about our Nation's history, we show our gratitude for the blessings of freedom.

The greatest strength of America is in the heart and soul of its people, and every time a volunteer reaches out to a neighbor in need, our Nation grows stronger and more hopeful. Thousands of Americans are serving a higher calling by mentoring, coaching, serving in Senior Corps, and by participating in many other programs that enrich lives and help build a better tomorrow. The light of freedom shines brightly because of compassionate people who care about others. Their dedication to a cause greater than self gives all Americans confidence in the future of our Nation.

The Congress, by Public Law 85-529, as amended, has designated May 1 of each year as “Loyalty Day.” I ask all Americans to join me in this day of celebration and in reaffirming our allegiance to our Nation.

NOW, THEREFORE, I, GEORGE W. BUSH, President of the United States of America, do hereby proclaim May 1, 2006, as Loyalty Day. I call upon all the people of the United States to join in support of this national observance, and to display the flag of the United States on Loyalty Day.

IN WITNESS WHEREOF, I have hereunto set my hand this twenty-eighth day of April, in the year of our Lord two thousand six, and of the Independence of the United States of America the two hundred and thirtieth.

B

[FR Doc. 06-4206

Filed 5-2-06; 8:50 am]

Billing code 3195-01-P